DEPARTMENT OF HEALTH AND HUMAN SERVICES

Administration for Children and Families

Proposed Information Collection Activity: Comment Request

Proposed Projects

Title: Compassion Capital Fund Evaluation—Indicators of Organizational Capacity Among Targeted Capacity Building Program Grantees.

OMB No.: New Collection.

Description: This proposed information collection activity is for a study that is one component of the evaluation of the Compassion Capital Fund (CCF) program. The information collection will be through mailed surveys to be completed by selected faith-based and community organizations that received Targeted Capacity Building grants under the CCF program.

The overall evaluation includes multiple components that will examine indicators, outcomes and effectiveness of the CCF in meeting its objective of improving the capacity of faith-based and community organizations. This component of the evaluation will involve approximately 250 faith-based and community organizations. Information will be sought from these organizations to assess change and improvement in various areas of organizational capacity resulting from receipt of a Targeted Capacity Building grant.

Respondents: The respondents will be selected faith-based and community organizations that received a Targeted Capacity Building grant in a prior year. The surveys will be self-administered.

Annual Burden Estimates:

Instrument | Number of respondents | Number of responses per respondent | Average burden hours per response | Total burden hours
Indicators of Organizational Capacity Survey | 250 | 1 | .33 | 82.5

Estimated Total Annual Burden Hours: 82.5

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade SW., Washington, DC 20447. Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents. Consideration will be given to comments and suggestions submitted within 60 days of this publication.

Dated: December 1, 2006.
Robert Sargis,
Reports Clearance Office.

[FR Doc. 06-9581 Filed 12-6-06; 8:45 am]

BILLING CODE 4184-01-M